DEPARTMENT OF THE INTERIOR

National Park Service

National Register of Historic Places; Notification of Pending Nominations and Related Actions

Nominations for the following properties being considered for listing or related actions in the National Register were received by the National Park Service before June 26, 2010. Pursuant to § 60.13 of 36 CFR Part 60, written comments are being accepted concerning the significance of the nominated properties under the National Register criteria for evaluation. Comments may be forwarded by United States Postal Service, to the National Register of Historic Places, National Park Service, 1849 C St., NW., 2280, Washington, DC 20240; by all other carriers, National Register of Historic Places, National Park Service,1201 Eye St. NW., 8th floor, Washington, DC 20005; or by fax, 202-371-6447. Written or faxed comments should be submitted by August 5, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places, National Historic Landmarks Program.

ALABAMA

Macon County

Shiloh Missionary Baptist Church and Rosenwald School, 7 Shiloh Rd, Notasulga, 10000522

Perry County

Brand, Bryand, House, Route 1, Box 260, Marion, 10000523

ARIZONA

Maricopa County

Fraser Fields Historic District, Fraser Dr W to Fraser Dr E; Third Pl to Pepper Pl, Mesa, 10000535

West Side—Clark Addition Historic District, Date St to Country Club Dr; 2nd Pl to Clark St, Mesa, 10000534

ARKANSAS

Mississippi County

West Main Street Residential Historic District, W Main St between B and 6th St and Division, Blytheville, 10000521

COLORADO

Garfield County

Wasson—McKay Place, 259 Cardinal Way, Parachute, 10000536

KENTUCKY

Bath County

Nesbitt, J.J., House, 233 W Main St, Owingsville, 10000532

Jefferson County

Dodd, William J., Residence, 1448 St. James Court, Louisville, 10000530

St. Bartholomew Parish School, 2036 Buechel Bank Rd, Louisville, 10000531

Morgan County

Christian Church of West Liberty, 304 Prestonsburg St, West Liberty, 10000529

Nelson County

Coombs—Duncan—Brown Farmhouse, 2985 Chaplin-Taylorsville Rd, Bloomfield, 10000525

Warren County

Standard Oil Company Filling Station, 638 College St, Bowling Green, 10000526

Washington County

Kalarama Saddlebred Horse Farm, 101 Kalarama Dr, Springfield, 10000528

KENTUCKY

Washington County

Maple Grove, 3216 Perryville Rd, Springfield, 10000527

MONTANA

Fergus County

Reed and Bowles Trading Post, Joyland Rd, Lewistown, 10000520

PUERTO RICO

Catano Municipality

Bacardi Distillery, (Rum Industry in Puerto Rico MPS) Rd 165. km 2.6 intersection SR 888, Bay View Industrial Park, Catano, 10000524

[FR Doc. 2010-17726 Filed 7-20-10; 8:45 am]

BILLING CODE 4312-15-P